DEPARTMENT OF ENERGY

Federal Energy Regulatory Commission

[Docket No. EL14-41-000]

Gaelectric, LLC, Jawbone Wind Farm, LLC, v. NorthWestern Corporation; Notice of Complaint

Take notice that on April 21, 2014, Gaelectric, LLC and Jawbone Wind Farm, LLC (collectively, Gaelectric) filed a formal complaint against NorthWestern Corporation (NorthWestern) pursuant to sections 206 and 306 of the Federal Power Act (FPA),¹ and Rule 206 of the Rules of Practice and Procedures ² of the Federal Energy Regulatory Commission (Commission), alleging violations of the NorthWestern Open Access Transmission Tariff by NorthWestern in the administration of transmission service requests submitted by Gaelectric, associated with the development of a wind generation facility in Montana.

¹ 16 U.S.C. 824e, 825e. (2013).

² 18 CFR 385.206 (2013).

Gaelectric certifies that copies of the Complaint were served on the contacts for NorthWestern as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 12, 2014.

Dated: April 22, 2014.
Kimberly D. Bose,
Secretary.

[FR Doc. 2014-09664 Filed 4-28-14; 8:45 am]

BILLING CODE 6717-01-P